DEPARTMENT OF ENERGY

Federal Energy Regulatory Commission

[ Project No. 2659-016]

PacifiCorp, Oregon; Notice of Availability of Environmental Assessment

December 5, 2003.

In accordance with the National Environmental Policy Act of 1969 and the Federal Energy Regulatory Commission's (Commission) regulations, 18 CFR part 380 (Order No. 486, 52 FR 47897), the Office of Energy Projects has reviewed the application for surrender of license for the Powerdale Hydroelectric Project. The project is located on the Hood River, in Hood River County, Oregon. There are no federal lands within the project boundary although the lower half of the bypassed reach and the powerhouse are located within the Columbia River Gorge National Scenic Area. The Commission staff has prepared an Environmental Assessment (EA) on the license surrender.

The EA contains the staff's analysis of the potential environmental impacts of decommissioning the project and removing most of the project facilities. In the EA, staff concludes that surrendering the license, with appropriate environmental protection measures, would not constitute a major federal action that would significantly affect the quality of the human environment.

A copy of the EA is available for review at the Commission in the Public Reference Room or may be viewed on the Commission's website at http://www.ferc.gov using the “eLibrary” link. Enter the docket number, excluding the last three digits in the docket number field, to access the document. For assistance, contact FERC Online Support at FERCOnlineSupport@ferc.gov or toll-free at 1-866-208-3676, or for TTY, (202) 502-8659.

You may also register online at http://www.ferc.gov/esubscribenow.htm to be notified via email of new filings and issuances related to this or other pending projects. For assistance, contact FERC Online Support.

Please file any comments (an original and 8 copies) within 45 days from the date of this notice. The comments should be addressed to Magalie R. Salas, Secretary, Federal Energy Regulatory Commission, 888 First Street NE., Washington, DC 20426. Please affix the Project No. 2659-016 to all comments. Comments may be filed electronically via the internet in lieu of paper (see 18 CFR 385.2001(a)(1)(iii)). Instructions for electronic filing are available on the Commission's Web site at http://www.ferc.gov under the ”e-filing” link. The Commission strongly encourages electronic filings.

For Further Information Contact: Bob Easton at (202) 502-6045.

Magalie R. Salas,
Secretary.

[FR Doc. E3-00537 Filed 12-11-03; 8:45 am]

BILLING CODE 6717-01-P